DEPARTMENT OF AGRICULTURE

Agricultural Marketing Service

[Docket Number FV-05-308]

United States Standards for Grades of Pea Pods

AGENCY: Agricultural Marketing Service, USDA.

ACTION: Reopening and extension of the comment period.

SUMMARY: Notice is hereby given that the comment period on the proposed United States Standards for Grades of Pea Pods is reopened and extended.

DATES: Comments must be received by June 22, 2006.

ADDRESSES: Interested persons are invited to submit written comments to the Standardization Section, Fresh Products Branch, Fruit and Vegetable Programs, Agricultural Marketing Service, U.S. Department of Agriculture, 1400 Independence Ave., SW., Room 1661 South Building, Stop 0240, Washington, DC 20250-0240; fax (202) 720-8871; E-mail FPB.DocketClerk @usda.gov. Comments should make reference to the dates and page number of this issue of the Federal Register and will be made available for public inspection in the above office during regular business hours and on the Internet.

The draft of the proposed United States Standards for Grades of Pea Pods is available by accessing the AMS's Fresh Products Branch Web site on the Internet at: http://www.ams.usda.gov/fv/fpbdocketlist.htm.

FOR FURTHER INFORMATION CONTACT: Cheri L. Emery, at the above address or call (202) 720-2185; E-mail Cheri.Emery @usda.gov.

SUPPLEMENTARY INFORMATION: A notice was published in the Federal Register, January 24, 2006, (71 FR 3817) requesting comments on the possible development of United States Standards for Grades of Pea Pods. The proposed U.S. standard would provide industry with a common language and a uniform basis for trading, thus promoting the orderly and efficient marketing of pea pods. The comment period ended on March 27, 2006.

A request was received from a packer/shipper of pea pods, expressing the need for additional time to review the proposed U.S. standard. The packer/shipper requested the comment period be extended to allow them the opportunity to submit comments.

After reviewing the request, AMS is reopening and extending the comment period in order to allow sufficient time for interested persons, including the packer/shipper, to file comments.

Authority: 7 U.S.C. 1621-1627.

Dated: May 17, 2006.
Lloyd C. Day,
Administrator, Agricultural Marketing Service.

[FR Doc. E6-7799 Filed 5-22-06; 8:45 am]

BILLING CODE 3410-02-P